DEPARTMENT OF THE INTERIOR

Bureau of Land Management

[ID-070-1150-PG]

Notice of Public Meeting, Upper Snake River Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Upper Snake River Resource Advisory Council (RAC), will meet as indicated below.

DATES: The meeting will be held August 27 and 28, 2003 at the office of the BLM Upper Snake River District, 1405 Hollipark Drive, in Idaho Falls, Idaho. The meeting will start August 27 at 2 p.m., with the public comment period beginning at approximately 2:10 p.m. The meeting will adjourn on August 28 at about 5 p.m.

SUPPLEMENTARY INFORMATION: The 15-member Council advises the Secretary of the Interior, through the Bureau of Land Management, on a variety of planning and management issues associated with public land management in the BLM Upper Snake River District (USRD), which covers south-central and southeast Idaho. At this meeting, topics we plan to discuss include: Updates on major planning projects in the USRD, including coordination of subgroups. A half-day discussion on the Director's Sustaining Working Landscapes policy initiative. Review of RAC feedback on BLM Idaho's statewide Off-Highway initiative. Review of Standards and Guidelines consistency. Other items of interest raised by the Council.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

A final USRD RAC meeting has been planned for November 2003, and will be announced in a future Federal Register Notice and through local media.

FOR FURTHER INFORMATION CONTACT: David Howell, RAC Coordinator, Upper Snake River District, 1405 Hollipark Dr., Idaho Falls, ID 83401. Telephone (208) 524-7559.

Dated: July 16, 2003.
David O. Howell,
Public Affairs Specialist.

[FR Doc. 03-18586 Filed 7-21-03; 8:45 am]

BILLING CODE 4310-GG-P